DEPARTMENT OF VETERANS AFFAIRS

Announcement of Public Listening Session To Inform VA's Plan To Assess the Current Scientific Literature and Historical Detailed Claims Data Regarding Certain Adverse Health Conditions Associated With Military Environmental Exposures and To Solicit Public Comment

AGENCY: Department of Veterans Affairs.

ACTION: Notice of public listening session.

SUMMARY: The Department of Veterans Affairs (VA) is announcing a virtual listening session for the public to provide feedback on VA's plan to assess the scientific literature and historical claims data regarding certain adverse health conditions associated with military environmental exposures. VA's assessment will consider the possibility of a relationship between acute leukemias, chronic leukemias and multiple myeloma and exposure to fine particulate matter (PM2.5) from airborne hazards and open burn pits for Veterans who were deployed in the Southwest Asia theater of operations or are covered Veterans, as defined by law. VA previously announced its plan in the Federal Register on July 26, 2023. During the listening session, Veterans Health Administration (VHA) subject matter experts will listen to public feedback and may ask questions but will not share proposals for specific conditions nor address the merits of any comments provided.

DATES: VA will hold the listening session on November 7, 2023. The session will start at 1:30 p.m. Eastern Standard Time (EST) and end at 3 p.m. EST and focus on VA's plan posted within the Federal Register notice on July 26, 2023. Individuals/organizations can sign up using the link below:

• November 7, 2023—Notice of Plans for the Department of Veterans Affairs to Assess the Current Scientific Literature and Historical Detailed Claims Data Regarding Acute Leukemias, Chronic Leukemias, and Multiple Myeloma and the Association with Military Environmental Exposures. Registration link: https://veteransaffairs.webex.com/weblink/register/r11a011e8ad468c564c6a613e929a67c7.

Note: The listening session will have closed captioning available. The webinar will be recorded and transcribed.

FOR FURTHER INFORMATION CONTACT: Dr. Peter D. Rumm, MD, MPH, Director of Policy, Health Outcomes Military Exposures, Veterans Health Administration, Department of Veterans Affairs, 810 Vermont Avenue NW, Washington, DC 20420, at 202-461-7297. This is not a toll-free number.

ADDRESSES: The session will be held virtually using Webex. Registration is required. Individuals may listen in or comment verbally or in writing. (See additional information below).

SUPPLEMENTARY INFORMATION: On July 26, 2023, VA published a notice in the Federal Register about its planned scientific assessment of the possibility of a relationship between acute leukemias, chronic leukemias, and multiple myeloma outside of the head and neck and exposure to PM2.5 from airborne hazards and open burn pits experienced by Veterans who served in the Southwest Asia theater of operations or who are covered Veterans, as defined by law (meaning generally those who served in Somalia, Afghanistan, Djibouti, Egypt, Jordan, Lebanon, Syria, Yemen and Uzbekistan) (88 FR 48291). The Notice was published in accordance with 38 U.S.C. 1172(a)(1), as created by section 202 of the Sergeant First Class Heath Robinson Honoring our Promise to Address Comprehensive Toxics (PACT) Act.

VA continues to review and assess information about military environmental exposure incidents, emerging scientific evidence regarding toxic substances and adverse health outcomes in deployed and non-deployed Veterans. Additionally, active epidemiological surveillance and ongoing monitoring of military exposures in collaboration with the Department of Defense are underway. If the scientific review concludes a possible association between military environmental exposure and an adverse health outcome is present, this may lead to additional research or be subject to a Federal Register notice and comment process, as required by section 1172. VA will publish other notices of this type as it reviews adverse health conditions and their possible association with military environmental exposures to provide health care, services and benefits to Veterans.

This listening session aims to allow individuals to share their research, input and comments on certain adverse health conditions associated with military environmental exposure. Participants can also share their recommendations on other conditions that would benefit from review.

Registration: Individuals interested in attending must register with Webex for the listening session. We will ask attendees if they want to provide verbal or written feedback during registration so we can coordinate enough time for verbal comments. However, verbal participation is not required to complete registration. If you wish to provide verbal or written feedback during the listening session, please register by November 3, 2023. Individuals who indicate interest in commenting will receive a confirmation message 2 business days before the session. Individuals who wish to submit materials to VA must do so by November 3, 2023, the Friday before the session.

VA will work to accommodate all individuals who wish to comment verbally. However, VA will prioritize those who registered in advance. The time allotted for individuals to comment verbally will depend on the number of registrations. We will turn off cameras and mute microphones until the presenter's scheduled time to accommodate as many comments as possible. VA will request written submissions if there is not enough time to hear all comments.

Note: During the listening session, VA will not share proposals or address feedback. VA will use suggestions made during this listening session and public comments on VA's plan to improve future evaluations. VA will continue to comply with the requirements of section 1172(a) and ensure appropriate public notice and opportunity for participation.

Special Accommodations: Attendees requiring special accommodations should make their requests to VA no later than October 31, 2023 (2 weeks before the listening session on November 7, 2023) by contacting the point of contact identified in this Notice.

Signing Authority

Denis McDonough, Secretary of Veterans Affairs, approved and signed this document on October 18, 2023, and authorized the undersigned to sign and submit the document to the Office of the Federal Register for publication electronically as an official document of the Department of Veterans Affairs.

Jeffrey M. Martin,
Assistant Director, Office of Regulation Policy & Management, Office of General Counsel, Department of Veterans Affairs.

[FR Doc. 2023-23395 Filed 10-23-23; 8:45 am]

BILLING CODE 8320-01-P